DEPARTMENT OF COMMERCE

International Trade Administration

[A-570-129, C-570-130]

Certain Walk-Behind Lawn Mowers and Parts Thereof From the People's Republic of China: Notice of Rescission of Circumvention Inquiry on the Antidumping and Countervailing Duty Orders

AGENCY: Enforcement and Compliance, International Trade Administration, Department of Commerce.

SUMMARY: The U.S. Department of Commerce (Commerce) is rescinding a circumvention inquiry regarding whether certain lawn mowers assembled or completed in the United States by attaching Chinese cutting deck shells (attached to at least one significant non-engine component) to internal combustion engines are circumventing the antidumping duty (AD) and countervailing duty (CVD) orders on certain walk-behind lawn mowers and parts thereof (lawn mowers) from the People's Republic of China (China).

DATES: Applicable July 21, 2023.

FOR FURTHER INFORMATION CONTACT: Yang Jin Chun or Natasia Harrison, AD/CVD Operations, Office VI, Enforcement and Compliance, International Trade Administration, U.S. Department of Commerce, 1401 Constitution Avenue NW, Washington, DC 20230; telephone: (202) 482-5760 or (202) 482-1240, respectively.

SUPPLEMENTARY INFORMATION:

Background

On March 3, 2023, Commerce published the notice of intent to rescind a circumvention inquiry regarding whether certain lawn mowers assembled or completed in the United States by attaching Chinese cutting deck shells (attached to at least one significant non-engine component) to internal combustion engines are circumventing the AD and CVD orders on lawn mowers from China under section 781(a) of the Tariff Act of 1930, as amended (the Act).¹ We invited interested parties to submit comments and rebuttals on our intent to rescind.² On March 17, 2023, MTD Products Inc. and its parent company, Stanley Black & Decker, Inc. (collectively, the petitioner) submitted comments.³ On March 24, 2023, Ningbo Daye Garden Machinery Co., Ltd., Ningbo Lingyue Intelligent Equipment Co., Ltd., and Daye North America, Inc. (collectively, Daye) submitted rebuttal comments.⁴

¹ See Certain Walk-Behind Lawn Mowers and Parts Thereof from the People's Republic of China: Notice of Intent To Rescind Circumvention Inquiry on the Antidumping and Countervailing Duty Orders, 88 FR 13434 (March 3, 2023) (Intent to Rescind), and accompanying Memorandum of Intent to Rescind; see also Certain Walk-Behind Lawn Mowers and Parts Thereof from the People's Republic of China and the Socialist Republic of Vietnam: Antidumping Duty Orders, 86 FR 36703 (July 13, 2021); and Certain Walk-Behind Lawn Mowers and Parts Thereof from the People's Republic of China: Countervailing Duty Order and Amended Final Affirmative Countervailing Duty Determination, 86 FR 36702 (July 13, 2021) (collectively, Orders).

² See Intent to Rescind, 88 FR at 13435.

³ See Petitioner's Letter, “Comments of MTD Products, Inc and Stanley Black & Decker, Inc. in Opposition to the Notice of Intent to Rescind the Anticircumvention Inquiry,” dated March 17, 2023. MTD Products, Inc. was the petitioner in the underlying investigations. See Certain Walk-Behind Lawn Mowers and Parts Thereof from the People's Republic of China and the Socialist Republic of Vietnam: Initiation of Less-Than-Fair-Value Investigations, 85 FR 37417, n.1 (June 22, 2020).

⁴ See Daye's Letter, “Response to Petitioner's Comments in Opposition to the Notice of Intent to Rescind the Anticircumvention Inquiry,” dated March 24, 2023.

For a full discussion of the basis for our rescission of this circumvention inquiry, see the Decision Memorandum.⁵ A list of topics discussed in the Decision Memorandum is included as the appendix to this notice. The Decision Memorandum is a public document and is on file electronically via Enforcement and Compliance's Antidumping and Countervailing Duty Centralized Electronic Service System (ACCESS). ACCESS is available to registered users at https://access.trade.gov. In addition, a complete version of the Decision Memorandum can be accessed directly at https://access.trade.gov/public/FRNoticesListLayout.aspx.

⁵ See Memorandum, “Certain Walk-Behind Lawn Mowers and Parts Thereof from the People's Republic of China: Rescission of Circumvention Inquiry on the Antidumping and Countervailing Duty Orders,” dated concurrently with, and hereby adopted by, this notice (Decision Memorandum).

Scope of the Orders

The products covered by these Orders are lawn mowers from China. A full description of the scope of the Orders is provided in the Decision Memorandum.

Merchandise Subject to the Circumvention Inquiry

The merchandise subject to this circumvention inquiry are lawn mower sub-assemblies imported from China and comprised of a cutting deck shell attached to at least one other significant non-engine component, such as, but not limited to, a handle, wheels, grass catcher bag, or an electronic starter. These sub-assemblies are assembled or completed in the United States by attaching internal combustion engines to produce rotary walk-behind lawn mowers of the type that would be subject to the Orders.⁶ The cutting deck shell is the portion of the lawn mower—typically of aluminum or steel—that houses and protects a user from a rotating blade. Cutting deck shells are typically entered under Harmonized Tariff Schedule of the United States (HTSUS) subheading 8433.11 or 8433.90.

⁶ This inquiry does not include lawn mowers assembled or completed in the United States using small vertical engines from China that are covered by the scope of the antidumping and countervailing duty orders on certain vertical shaft engines between 99cc and up to 225 cc, and parts thereof. See Initiation Notice, 87 FR at 65034, n.11.

Rescission of Circumvention Inquiry

As explained above, this circumvention inquiry covers cutting deck shells attached to at least one other significant non-engine component, such as, but not limited to, a handle, wheels, grass catcher bag, or an electronic starter. We find that the inquiry merchandise is specifically excluded from the scope of the Orders because it is not imported as “at a minimum, a sub-assembly comprised of an engine and a cutting deck shell attached to one another.” ⁷ We also find that it is not appropriate to conduct a circumvention inquiry on such specifically excluded merchandise. Therefore, Commerce is rescinding this circumvention inquiry, in accordance with 19 CFR 351.226(f)(6). For more explanation, see the Decision Memorandum.

⁷ See Decision Memorandum at 2.

Suspension of Liquidation

Pursuant to 19 CFR 351.226(l)(1), Commerce notified U.S. Customs and Border Protection (CBP) of the initiation of this circumvention inquiry and directed CBP to continue the suspension of liquidation of entries of products subject to the circumvention inquiry that were already subject to the suspension of liquidation under the Orders and to apply the cash deposit rate that would be applicable if the products were determined to be covered by the scope of the Orders.⁸ Because we are now rescinding this inquiry, Commerce will inform CBP accordingly and instruct CBP to continue to suspend entries of lawn mowers from China that are subject to the Orders at the applicable rate(s) in effect on the date of entry until specific liquidation instructions are issued.

⁸ See CBP Message No. 2305407, dated November 1, 2022.

Notification to Interested Parties

This notice is issued and published in accordance with 19 CFR 351.226(f)(6).

Dated: July 17, 2023.
Lisa W. Wang,
Assistant Secretary for Enforcement and Compliance.

Appendix

List of Topics Discussed in the Decision Memorandum

I. Summary

II. Background

III. Scope of the Orders

IV. Merchandise Subject to the Circumvention Inquiry

V. Discussion of the Issue

Comment: Whether to Rescind this Circumvention Inquiry

VI. Recommendation

[FR Doc. 2023-15529 Filed 7-20-23; 8:45 am]

BILLING CODE 3510-DS-P